DEPARTMENT OF TRANSPORTATION

National Highway Traffic Safety Administration

[U.S. DOT Docket No. NHTSA-2017-0052]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes the collection of information for which NHTSA intends to seek OMB approval.

DATES: Comments must be received on or before September 15, 2017.

ADDRESSES: You may submit comments identified by DOT Docket Number NHTSA-2017-0052 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Each submission must include the agency name and the docket number for this notice. Note that all comments received will be posted without change to http://www.regulations.gov, including any personal information provided.

FOR FURTHER INFORMATION CONTACT: Kathy J. Sifrit, Contracting Officer's Representative, Office of Behavioral Safety Research (NPD-320), National Highway Traffic Safety Administration, 1200 New Jersey Avenue SE., W46-466, Washington, DC 20590. Dr. Sifrit's phone number is 202-366-0868, and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Visual Scanning Training for Older Drivers.

Type of Request: New information collection.

OMB Clearance Number: None.

Form Number: NHTSA Forms 1400, 1401 and 1402.

Requested Expiration Date of Approval: 3 years from date of approval.

Summary of the Collection of Information: The National Highway Traffic Safety Administration (NHTSA) proposes to collect information from licensed older drivers to determine (1) their eligibility to participate in a study of the effectiveness of a visual scanning training protocol to improve driving safety, (2) their attitudes about the training procedures and their perceptions of its benefits, and (3) the driving performance during on-road evaluations to measure training effectiveness.

Study participation will be voluntary and solicited through informational sessions delivered by a research team member to residents of a continuing care retirement community. The administrator of the host facility will post notices describing the presentation. During the presentation, attendees will be invited to join the research study. Those who indicate an interest in participating will be asked their age and four screening questions to determine their eligibility for the study. A research team member will make appointments to answer any questions participants may have about the study, to obtain their signatures on an informed consent agreement approved by an Institutional Review Board (IRB), and to check for color vision and binocular vision limitations.

Consented study participants will be randomly assigned within age and gender categories to either participation in the visual scanning training program (four one-on-one training sessions of one-hour each) or to a control (placebo) activity for the same amount of time. All participants will also undergo three one-hour on-road evaluations by a Certified Driver Rehabilitation Specialist (CDRS) over the course of the study. The CDRS will provide instructions to the driver about what route to follow and will score driving performance using standard procedures and criteria that are broadly accepted in the profession. Following the second and third evaluations, each study participant will receive a $100 gift card as compensation for participation for a total value of $200 per participant.

Audio recordings of the scanning training sessions will be made, and any comments about the training offered by participants will be noted by research staff during review of the recordings. After completing visual scanning training, participants will complete a brief questionnaire to determine whether they believe the training will help them to be a safer driver, whether they would recommend the training to friends or relatives, and what they would pay for such training.

Description of the Need for the Information and Proposed Use of the Information—NHTSA was established to reduce the number of deaths, injuries, and economic losses resulting from motor vehicle crashes on the Nation's highways. As part of this statutory mandate, NHTSA is authorized to conduct research as a foundation for the development of traffic safety programs.

Older adults comprise an increasing proportion of the licensed population, and exposure-based analyses of crash risk have consistently shown increased rates of involvement for drivers as they age into their 70's and beyond. Further, these crash risk studies have identified particular situations where older drivers are most at risk. These situations often require significant visual search and attention, such as maneuvers at intersections and in merging situations.

As the effect of this age-related decline in visual search and attention on safe driving abilities has become better understood, researchers have developed different strategies and techniques to ameliorate it. The visual scanning training protocol that is the focus of this study was designed to be delivered by a generalist occupational therapist (OT). The OT would conduct the one-on-one sessions in a clinical setting, targeting visual field expansion, simultaneous processing of multiple visual stimuli, and ocular skill (visual search routine) exercises. NHTSA's study “Validation of Rehabilitation Training Programs for Older Drivers” (DOT HS 811 749; April 2013) provided a preliminary analysis of the training's effectiveness. While these results were encouraging, the research team concluded that widespread promotion of this intervention would require additional evidence.

Following efforts to refine and streamline the training protocol, a larger sample of healthy older drivers will receive the updated training program. The study will measure effectiveness of the training by comparison of CDRS road test scores to a control group while also gauging drivers' attitudes and perceptions about the training experience. The original training program developer and supporting research team will direct and perform this study.

Description of the Likely Respondents (Including Estimated Number, and Proposed Frequency of Response to the Collection of Information)—Responds will be residents of a continuing care retirement community. Residents interested in participating will be excluded if they have been advised to alter or restrict driving by a physician/health care professional; if they require use of any adaptive vehicle controls (e.g., hand controls or left foot accelerator); if they have color vision problems; or if they do not hold a valid driver's license. We anticipate screening 135 residents to recruit 90 older drivers for the study with 60 between the ages of 70 and 79 and 30 ages 80 or older. A roughly equal distribution of males and females will be sought within each age cohort. Overall, 45 older drivers will be randomly assigned to the treatment group (visual scanning training protocol) and 45 to the control (placebo) group (internet search strategies for locating information and resources to improve driving safety).

The screening of the estimated 135 respondents will occur once. The response to informed consent and check for vision limitations for the 90 participants occurs just once, but the study requires participation in the subsequent four training sessions and three on-road driving evaluations. The 45 participants who received the training will complete a brief one-time questionnaire about attitudes and beliefs about the training program administered at the end of the training protocol.

Estimate of the Total Annual Reporting and Record Keeping Burden Resulting from the Collection of Information—The total estimated burden for this information collection is 689 hours and 15 minutes. The estimated 135 post-presentation sign-up interactions to learn the age of interested candidates and ask the questions about exclusion criteria will average 3 minutes in length for an estimated total burden of 6 hours and 45 minutes. All of the 90 participants will attend a 30-minute meeting to obtain informed consent and check for color and binocular vision limitations, four one-hour training sessions, and three one-hour on-road evaluations for an estimated total burden of 675 hours. The 45 treatment group participants also will be asked to complete a ten-minute questionnaire to collect attitudes and beliefs about the visual scanning training protocol for a total estimated burden of 7 hours and 30 minutes. Participants will incur no costs from the data collection, and participants will incur no record keeping burden and no record keeping cost from the information collection.

Authority: 44 U.S.C. Section 3506(c)(2)(A).

Issued in Washington, DC on July 7, 2017.
Jeff Michael,
Associate Administrator, Research and Program Development.

[FR Doc. 2017-14931 Filed 7-14-17; 8:45 am]

BILLING CODE P